DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 80 FR 44358 dated July 27, 2015).

This notice reflects organizational changes in the Health Resources and Services Administration (HRSA), Office of Planning, Analysis, and Evaluation (RA5). Specifically, this notice: (1) Establishes the Office of Strategic Initiatives (RA59) within the Office of Planning, Analysis, and Evaluation.

Chapter RA5—Office of Planning, Analysis, and Evaluation

Section RA5—00, Mission

The Office of Planning, Analysis, and Evaluation (RA5) provide HRSA-wide leadership on cross-agency initiatives and Departmental priorities.

Section RA5-10, Organization

Delete the organization for the Office of Planning, Analysis, and Evaluation in its entirety and replace with the following:

The Office of Planning, Analysis, and Evaluation (RA5) is headed by the Director, who reports directly to the Administrator, Health Resources and Services Administration. The Office of Planning, Analysis, and Evaluation includes the following components:

(1) Office of the Director (RA5);

(2) Office of Policy Analysis (RA53);

(3) Office of Research and Evaluation (RA56);

(4) Office of External Engagement (RA57);

(5) Office of Performance and Quality Measurement (RA58); and

(6) Office of Strategic Initiatives (RA59).

Section RA5-20, Functions

This notice reflects organizational changes in the Health Resources and Services Administration (HRSA), Office of Planning, Analysis, and Evaluation (RA5). Specifically, this notice: (1) Establishes the Office of Strategic Initiatives (RA59).

Establish the functional statement for the Office of Strategic Initiatives (RA59) within the Office of Planning, Analysis, and Evaluation (RA5).

Office of Strategic Initiatives (RA59)

(1) Provides HRSA-wide leadership on cross-agency initiatives and departmental priorities; (2) maintains liaison between the Administrator, other OPDIVs, Office of the Secretary staff components, and other Departments on priority initiatives; (3) provides technical assistance to Agency programs in order to help them respond to emerging issues affecting the health care safety net; (4) coordinates outreach to grantees and stakeholders on high profile public health initiatives; (5) establishes an infrastructure and strategic direction of priority initiatives and institutionalizes these efforts into HRSA programs; and (6) coordinates the Agency's long-term strategic planning process.

Delegations of Authority

All delegations of authority and re-delegations of authority made to HRSA officials that were in effect immediately prior to this reorganization, and that are consistent with this reorganization, shall continue in effect pending further re-delegation.

This reorganization is effective upon date of signature.

Dated: October 18, 2015.
James Macrae,
Acting Administrator.

[FR Doc. 2015-27592 Filed 10-28-15; 8:45 am]

BILLING CODE 4165-15-P